DEPARTMENT OF AGRICULTURE

Animal and Plant Health Inspection Service

9 CFR Part 94

[Docket No. 01-008-2]

Change in Disease Status of Germany, Italy, and Spain Because of BSE

AGENCY: Animal and Plant Health Inspection Service, USDA.

ACTION: Affirmation of interim rule as final rule.

SUMMARY: We are adopting as a final rule, without change, an interim rule that added Germany, Italy, and Spain to the list of regions where bovine spongiform encephalopathy (BSE) exists because the disease had been detected in native-born animals in those regions. Germany, Italy, and Spain had already been listed among the regions that present an undue risk of introducing BSE into the United States, so the effect of the interim rule was a continued restriction on the importation of ruminants that have been in Germany, Italy, or Spain and meat, meat products, and certain other products of ruminants that have been in Germany, Italy, or Spain. The interim rule was necessary in order to update the disease status of Germany, Italy, and Spain regarding BSE.

EFFECTIVE DATE: The interim rule became effective on April 30, 2001.

FOR FURTHER INFORMATION CONTACT: Dr. Donna Malloy, National Center for Import and Export, Products Program, VS, APHIS, 4700 River Road Unit 40, Riverdale, MD 20737-1231; (301) 734-3277.

SUPPLEMENTARY INFORMATION:

Background

In an interim rule effective April 30, 2001, and published in the Federal Register on May 4, 2001 (66 FR 22425-22426, Docket No. 01-008-1), we amended the regulations in 9 CFR part 94 by adding Germany, Italy, and Spain to the list of regions where bovine spongiform encephalopathy (BSE) exists. Germany, Italy, and Spain had previously been listed in § 94.18(c)(2) as regions that present an undue risk of introducing BSE into the United States. However, due to the detection of BSE in native-born animals in those regions, the interim rule was necessary to update the disease status of Germany, Italy, and Spain regarding BSE.

Comments on the interim rule were required to be received on or before July 3, 2001. We received one comment by that date from a foreign agricultural official. The commenter indicated that the actions taken in the interim rule were consistent with the actions taken by his government. The commenter did not raise any objections to the interim rule.

Therefore, for the reasons given in the interim rule, we are adopting the interim rule as a final rule without change.

This action also affirms the information contained in the interim rule concerning Executive Order 12866 and the Regulatory Flexibility Act, Executive Order 12988, and the Paperwork Reduction Act.

Further, for this action, the Office of Management and Budget has waived the review process required by Executive Order 12866.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 66 FR 22425-22426 on May 4, 2001.

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

Done in Washington, DC, this 6th day of December 2001.
W. Ron DeHaven,
Acting Administrator, Animal and Plant Health Inspection Service.

[FR Doc. 01-30599 Filed 12-10-01; 8:45 am]

BILLING CODE 3410-34-U